ENVIRONMENTAL PROTECTION AGENCY

[EPA-HQ-OPP-2010-0014; FRL-9336-2]

Notice of Receipt of Requests To Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of requests by registrants to voluntarily cancel certain pesticide registrations. EPA intends to grant these requests at the close of the comment period for this announcement unless the Agency receives substantive comments within the comment period that would merit its further review of the requests, or unless the registrants withdraw their requests. If these requests are granted, any sale, distribution, or use of products listed in this notice will be permitted after the registration has been cancelled only if such sale, distribution, or use is consistent with the terms as described in the final order.

DATES: Comments must be received on or before August 27, 2012.

ADDRESSES: Submit your comments, identified by docket identification (ID) number EPA-HQ-OPP-2010-0014, by one of the following methods:

• Federal eRulemaking Portal: http://www.regulations.gov. Follow the online instructions for submitting comments.

• Mail: Office of Pesticide Programs (OPP) Regulatory Public Docket (7502P), Environmental Protection Agency, 1200 Pennsylvania Ave. NW., Washington, DC 20460-0001.

Submit written withdrawal request by mail to: Pesticide Re-evaluation Division (7508P), Office of Pesticide Programs, Environmental Protection Agency, 1200 Pennsylvania Ave. NW., Washington, DC 20460-0001. ATTN: Jolene Trujillo.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2010-0014. EPA's policy is that all comments received will be included in the docket without change and may be made available online at http://www.regulations.gov, including any personal information provided, unless the comment includes information claimed to be Confidential Business Information (CBI) or other information whose disclosure is restricted by statute. Do not submit information that you consider to be CBI or otherwise protected through regulations.gov or email. The regulations.gov Web site is an “anonymous access” system, which means EPA will not know your identity or contact information unless you provide it in the body of your comment. If you send an email comment directly to EPA without going through regulations.gov, your email address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Jolene Trujillo, Pesticide Re-evaluation Division (7508P), Office of Pesticide Programs, Environmental Protection Agency, 1200 Pennsylvania Ave. NW., Washington, DC 20460-0001; telephone number: (703) 347-0103; email address: trujillo.jolene@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. If you have any questions regarding the information in this notice, consult the person listed under FOR FURTHER INFORMATION CONTACT.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What Action is the Agency Taking?

This notice announces receipt by the Agency of requests from registrants to cancel 30 pesticide products registered under FIFRA section 3 or 24(c). These registrations are listed in sequence by registration number (or company number and 24(c) number) in Table 1 of this unit.

Unless the Agency determines that there are substantive comments that warrant further review of the requests or the registrants withdraw their requests, EPA intends to issue orders in the Federal Register cancelling all of the affected registrations.

Table 1—Registrations with Pending Requests for Cancellation
Registration No. | Product name | Chemical name
000322-00008 | Pearson's Rat Poison | Zinc phosphide (Zn3P2).
000577-00539 | Semi-transparent Wood Preservative Stain A14T5 | Folpet, Tributyltin oxide.
000577-00544 | Cuprinol Stain and Wood Preservative | Tributyltin oxide, Chlorothalonil.
000707-00120 | Kathon 4200 Fabric Mildewcide | Octhilinone.
001448-00315 | B-7-16 | Poly(oxy-1,2-ethanediyl(dimethylimino)-1,2-ethanediyl(dimethylimino)-1,2-ethanediyl dichloride).
001529-00029 | Nuosept 635-W Preservative | Alkyl amine hydrochloride.
001529-00030 | Fungitrol 158 Fungicide | Alkyl* amine hydrochloride *(as in fatty acids of coconut oil), Tributyltin benzoate.
001677-00199 | Quantum TB Disinfectant | Caprylic acid.
002829-00127 | Vinyzene IT-3000 DIDP | Octhilinone.
002829-00139 | Vinyzene DP 7000 | Triclosan.
002829-00145 | Vinyzene SB-30 | Triclosan.
004822-00429 | Waste Minders with Stangard/4 | Triclosan.
007313-00006 | Olympic Clear Wood Preservative | Tributyltin oxide, Folpet.
007364-00022 | Algimycin Winter Algicide | Poly(oxy-1,2-ethanediyl(dimethylimino)-1,2-ethanediyl(dimethylimino)-1,2-ethanediyl dichloride).
007364-00093 | Poolcare Algastop | Poly(oxy-1,2-ethanediyl(dimethylimino)-1,2-ethanediyl(dimethylimino)-1,2-ethanediyl dichloride).
008177-00071 | Enterprise Stain & Wood Preservative | Tributyltin oxide, Carbamic acid, butyl-, 3-iodo-2-propynyl ester.
010807-00447 | Purge Insecticide | Piperonyl butoxide, Pyrethrins.
035975-00004 | Sodium Fluoroacetate (Compound 1080) Livestock Protection Collar. | Sodium Fluoroacetate
047371-00084 | Formulation HL-138D | Alkyl* dimethyl benzyl ammonium chloride *(60%C14, 30%C16, 5%C18, 5%C12), Tributyltin oxide.
053883-00259 | Termini 9.1 SC | Fipronil.
CO080003 | Endura Fungicide | Boscalid.
MD080002 | Ridomil Gold Copper | Copper hydroxide D-Alanine, N-(2,6-dimethylphenyl)-N-(methoxyacetyl)-, methyl ester.
OR000023 | Daconil SDG | Chlorothalonil.
WA000003 | Daconil SDG | Chlorothalonil.
WA030013 | Thiodan 3 EC Insecticide | Endosulfan.
WA030017 | Thionex 50W Insecticide | Endosulfan.
WA030018 | Thiodan 3 EC Insecticide | Endosulfan.
WA060006 | Outlook Herbicide | dimethenamide-P.
WA060018 | Prowl H2O Herbicide | Pendemethalin.
WA860012 | Furadan 15 G Insecticide-Nemanticide | Carbofuran.

Table 2 of this unit includes the names and addresses of record for all registrants of the products in Table 1 of this unit, in sequence by EPA company number. This number corresponds to the first part of the EPA registration numbers of the products listed in this unit.

Table 2—Registrants Requesting Voluntary Cancellation
EPA company No. | Company name and address
322 | Fort Dodge Chemical Company, P.O. Box 2021, Lompoc, CA 93438.
577 | The Sherwin-Williams Co., 101 Prospect Ave., Cleveland, OH 44115.
707 | Rohm and Haas Co., 100 S Independence Mall West, STE 1A, Philadelphia, PA 19106.
1448 | Buckman Laboratories Inc., 1256 North Mclean Blvd., Memphis, TN 38108.
1529 | International Specialty Products, 1361 Alps Rd., Wayne, NJ 07470.
1677 | Ecolab Inc., 370 N. Wabasha St., St. Paul, MN 55102.
2829 | Rohm and Haas Co., 100 S Independence Mall West, STE 1A, Philadelphia, PA 19106.
4822 | S.C. Johnson & Son, Inc., 1525 Howe St., Racine, WI 53403.
7313 | PPG Architectural Finishes Inc., 1 PPG Place, Pittsburgh, PA 15272.
7364 | GLB Pool & Spa, W175 N11163 Stonewood Dr., Suite 234, Germantown, WI 53022.
8177 | The Valspar Corporation, Agent: Lewis & Harrison, LLC, 122 C Street, NW., Suite 740, Washington, DC 20001.
10807 | Amrep Inc., 990 Industrial Park Dr., Marietta, GA 30062.
35975 | Montana Department of Livestock, P.O. Box 202001, Helena, MT 59620-2001.
47371 | H & S Chemical Division, 90 Boroline Rd., Allendale, NJ 07401.
53883 | Control Solutions Inc., 5903 Genoa-Red Bluff Rd., Pasadena, TX 77507-1041.
MD080002 | Syngenta Crop Protection, LLC, D/B/A Syngenta Crop Protection, Inc., P.O. Box 18300, Greensboro, NC 27419-8300.
OR000023; WA000003 | GB Biosciences Corporation, 410 Swing Rd., P.O. Box 18300, Greensboro, NC 27419-5458.
WA030013; WA030017; WA030018 | Makhteshim-Agan of North America, Inc., Agent: Pyxis Regulatory Consulting, Inc., 4110 136th St., NW., Gig Harbor, WA 98332.
WA060006; WA060018; CO080003 | BASF Corp. Agricultural Products, 26 Davis Dr., P.O. Box 13528, Research Triangle Park, NC 27709-3528.
WA860012 | FMC Corp. Agricultural Products Group, 1735 Market, Room 1978, Philadelphia, PA 19103.

III. What is the Agency's authority for taking this action?

Section 6(f)(1) of FIFRA provides that a registrant of a pesticide product may at any time request that any of its pesticide registrations be cancelled. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The registrants in Table 2 of Unit II., have not requested that EPA waive the 180-day comment period. Accordingly, EPA will provide a 180-day comment period on the proposed requests.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action. Because the Agency has identified no significant potential risk concerns associated with these pesticide products, upon cancellation of the products identified in Table 1 of Unit II., EPA will allow existing stocks provisions as follows:

A. Registrations Listed in Table 1 of Unit II except for No. WA860012

EPA anticipates allowing registrants to sell and distribute existing stocks of these products for 1 year after publication of the Cancellation Order in the Federal Register. Thereafter, registrants will be prohibited from selling or distributing the pesticides identified in Table 1 of Unit II., except for export consistent with FIFRA section 17 or for proper disposal. Persons other than registrants will generally be allowed to sell, distribute, or use existing stocks until such stocks are exhausted, provided that such sale, distribution, or use is consistent with the terms of the previously approved labeling on, or that accompanied, the cancelled products.

B. Registration No. WA860012

The effective date of cancellation of this product is the date of publication of the cancellation order in the Federal Register. EPA does not intend to allow the continued sale and distribution of existing stocks of this product after the effective date of this cancellation. There are currently no tolerances in effect for any of the food or feed crops associated with the domestic use of carbofuran products, and there have been none since the 2009 tolerance revocations took effect on December 31, 2009, (May 15, 2009, 74 FR 23046) (FRL-8413-3).

List of Subjects

Environmental protection, Pesticides and pests.

Dated: February 15, 2012.
Michael Goodis,
Acting Director, Pesticide Re-evaluation Division, Office of Pesticide Programs.

[FR Doc. 2012-4678 Filed 2-28-12; 8:45 am]

BILLING CODE 6560-50-P